DEPARTMENT OF EDUCATION

Authorization of Subgrants

AGENCY: Office of Innovation and Improvement, Department of Education.

ACTION: Notice.

[Catalog of Federal Domestic Assistance Number: 84.370C.]

SUMMARY: This notice authorizes the use of subgrants with Scholarships for Opportunity and Results Act (SOAR Act) funds awarded under CFDA 84.370C to the District of Columbia Office of the State Superintendent of Education (OSSE), for the purpose of carrying out its proposed activities in support of quality charter schools.

DATES: Effective Date: November 20, 2013.

FOR FURTHER INFORMATION CONTACT: Erin Pfeltz, U.S. Department of Education, 400 Maryland Avenue SW., room 4W228, Washington, DC 20202-5970. Telephone: (202) 205-3525 or by email: erin.pfeltz@ed.gov. If you use a telecommunications device for the deaf (TDD) or a text telephone (TTY), call, toll free: 1-877-576-7734.

SUPPLEMENTARY INFORMATION:

Purpose of Program: Under the Scholarships for Opportunity and Results Act (SOAR Act), the Department awards funding for opportunity scholarships for students to attend private schools, and it awards funding to the District of Columbia to improve public education in District of Columbia Public Schools and to improve and expand the quality of District of Columbia public charter schools (charter schools) under a three-part comprehensive funding strategy, as described in section 3002(4) of the SOAR Act. The intent of this comprehensive funding approach is to ensure that progress will continue to be made to improve public schools and public charter schools and to ensure that funding for the Opportunity Scholarship Program will not lead to a reduction in funding for the District of Columbia public and charter schools.

Under section 3004(b) of the SOAR Act, the Secretary is required to provide funds to the Mayor of the District of Columbia to improve and expand quality public charter schools in the District of Columbia.

Program Authority: Scholarships for Opportunity and Results (SOAR) Act, Division C of Public Law 112-10; 125 Stat. 199-212, as amended by Public Law 112-92, the SOAR Technical Corrections Act; 126 Stat. 6-7.

Applicable Regulations: 34 CFR 75.708.

Eligible Entities for Subgrants: District of Columbia public charter schools and non-profit organizations.

Discussion: Using SOAR Act funds, OSSE has proposed to award subgrants (as defined in 34 CFR 80.3) through multiple competitions to support charter schools in the District of Columbia. Proposed activities include providing funding to improve charter school performance and educational outcomes, and providing effective facility financing and funding to increase the number of new, high-quality charter school seats. In the case of subgrants to schools, awards will be made to the entities identified in the approved application (District of Columbia charter schools). For the remaining subgrants, entities will be selected through a competitive process set out in subgranting procedures established by the grantee.

Requirements: This subgranting authority must be used by OSSE to directly carry out project activities described in its application. OSSE must ensure that subgrants are awarded on the basis of an approved budget that is consistent with OSSE's approved application and all applicable Federal statutory, regulatory, and other requirements. OSSE must ensure that every subgrant includes any conditions required by Federal statutes and executive orders and their implementing regulations. OSSE must ensure that subgrantees are aware of requirements imposed upon them by Federal statutes and regulations, including the Federal anti-discrimination laws enforced by the Department, which are set out at 34 CFR 75.500.

Note: This notice does not solicit applications. Authorization of the SOAR Act directs funds to the Mayor of the District of Columbia for District of Columbia public charter schools.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: November 15, 2013.
Nadya Chinoy Dabby,
Associate Assistant Deputy Secretary For the Office of Innovation and Improvement, delegated the authority to perform the functions and duties of the Assistant Deputy Secretary.

[FR Doc. 2013-27847 Filed 11-19-13; 8:45 am]

BILLING CODE 4000-01-P